DEPARTMENT OF EDUCATION

34 CFR Chapter VI

[Docket ID ED-2018-OPE-0076]

RIN 1840-AD36, 1840-AD37, 1840-AD38, 1840-AD40, and 1840-AD44

Negotiated Rulemaking Committee; Location of Negotiations and Subcommittee Meetings—Accreditation and Innovation

AGENCY: Office of Postsecondary Education, Department of Education.

ACTION: Notice of location of negotiations and subcommittee meetings.

SUMMARY: On October 15, 2018, we announced our intention to establish a negotiated rulemaking committee to prepare proposed regulations for the Federal Student Aid programs authorized under title IV of the Higher Education Act of 1965, as amended (HEA). In this notice, we announce the locations of each committee and subcommittee meeting.

DATES: Please see the SUPPLEMENTARY INFORMATION section for meeting dates.

ADDRESSES: Please see the SUPPLEMENTARY INFORMATION section for meeting locations.

FOR FURTHER INFORMATION CONTACT: Aaron Washington, U.S. Department of Education, 400 Maryland Ave. SW, Room 294-12, Washington, DC 20202. Telephone (202) 453-7241. Email: Aaron.Washington@ed.gov.

If you use a telecommunications device for the deaf (TDD) or text telephone (TTY), call the Federal Relay Service (FRS), toll free, at 1-800-877-8339.

SUPPLEMENTARY INFORMATION:

Locations for Negotiations and Subcommittee Meetings

The Accreditation and Innovation Committee will meet for three sessions on the following dates:

Session 1: January 14-16, 2019

Session 2: February 19-22, 2019

Session 3: March 25-28, 2019

Sessions will run from 9:00 a.m. to 5:00 p.m.

The January committee meeting will be held at the U.S. Department of Education at: Lyndon Baines Johnson (LBJ) Building Barnard Auditorium, 400 Maryland Avenue SW, Washington, DC 20202.

The February committee meeting will be held at the U.S. Department of Education at: Potomac Center Plaza (PCP) Auditorium, 550 12th Street SW, Washington, DC 20202.

The March committee meeting will be held at the U.S. Department of Education at: LBJ Building Barnard Auditorium, 400 Maryland Avenue SW, Washington, DC 20202.

The committee meetings are open to the public to attend in person. The committee meetings will also be made available to the public through a Department-provided livestream.

The Distance Learning and Educational Innovation Subcommittee will meet for three meetings on the following dates:

Meeting 1: January 17-18, 2019

Meeting 2: February 12-13, 2019

Meeting 3: March 11-12, 2019

Meetings will run from 9:00 a.m. to 5:00 p.m.

The subcommittee meetings will be held at the U.S. Department of Education at: LBJ Building, 400 Maryland Ave. SW, Washington, DC 20202.

The January meeting will be held in room 1W113. The February meeting will be held in room 1W103. The March meeting will be held in room 1W126.

The Faith-Based Entities Subcommittee will meet for three meetings on the following dates:

Meeting 1: January 17-18, 2019

Meeting 2: February 12-13, 2019

Meeting 3: March 11-12, 2019

Meetings will run from 9:00 a.m. to 5:00 p.m.

The subcommittee meetings will be held at the U.S. Department of Education at: LBJ Building, 400 Maryland Ave. SW, Washington, DC 20202.

The January meeting will be held in room 297-05. The February meeting will be held in room 297-05. The March meeting will be held in room 1W113.

The TEACH Grant Subcommittee will meet for three meetings on the following dates:

Meeting 1: January 17-18, 2019

Meeting 2: February 12-13, 2019

Meeting 3: March 11-12, 2019

Meetings will run from 9:00 a.m. to 5:00 p.m.

The subcommittee meetings will be held at the U.S. Department of Education at: LBJ Building, 400 Maryland Ave. SW, Washington, DC 20202.

The January meeting will be held in room 288-04. The February meeting will be held in room 288-04. The March meeting will be held in room 288-04.

Subcommittee meetings are not open to the public. The subcommittee meetings will be made available to the public through a Department-provided livestream.

Accessible Format: Individuals with disabilities can obtain this document in an accessible format (e.g., braille, large print, audiotape, or compact disc) by contacting Aaron Washington, U.S. Department of Education, 400 Maryland Ave. SW, Room 294-12, Washington, DC 20202. Telephone (202) 453-7241. Email: Aaron.Washington@ed.gov.

Electronic Access to this Document: The official version of this document is the document published in the Federal Register. Free internet access to the official edition of the Federal Register and the Code of Federal Regulations is available at www.govinfo.gov. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: November 17, 2018.
Diane Auer Jones,
Principal Deputy Under Secretary Delegated to Perform the Duties of Under Secretary and Assistant Secretary, Office of Postsecondary Education.

[FR Doc. 2018-27761 Filed 12-21-18; 8:45 am]

BILLING CODE 4000-01-P